POSTAL SERVICE

Transfer of Post Office Box Service in Selected Locations to the Competitive Product List: Postal Service™

ACTION: Notice.

SUMMARY: The Postal Service hereby provides notice it has filed a request with the Postal Regulatory Commission to reassign Post Office Box™ service for approximately 297 locations from their market-dominant fee groups to competitive fee groups.

DATES: March 16, 2022.

FOR FURTHER INFORMATION CONTACT: Valerie Pelton, 202-487-4341.

SUPPLEMENTARY INFORMATION: Locations providing Post Office Box service are classified as competitive or market dominant and assigned to fee groups based upon the Post Office location and other criteria. Competitive fee groups provide more services than market dominant ones and have somewhat higher fees. Competitive Post Office Box service includes several enhancements such as: Electronic notification of the receipt of mail, use of an alternate street address format, signature on file for delivery of certain accountable mail, and additional hours of access and/or earlier availability of mail in some locations.

Pursuant to 39 CFR 3040.130 et seq and 39 U.S.C. 3642, the Postal Service has filed a request with the PRC to transfer 297 Post Office Box service locations to competitive classification. The Postal Service's request would expand the Postal Regulatory Commission's current five-mile criterion for assessing competitiveness by an additional three miles, to extend the mileage range from five miles to eight miles. The proposed eight-mile criterion is based on survey data that the Postal Service has filed with the Postal Regulatory Commission alongside its request. The survey data show that many customers either currently travel longer distances for mailbox service or are willing to do so. The proposed transfer would cover approximately 297 Post Office Box service locations, out of a total of approximately 32,788 locations offering Post Office Box service.

Documents pertinent to this request are available at http://www.prc.gov, Docket No. MC2022-46. A list of affected locations, with the associated ZIP Codes, is provided in the Appendix to this notice.

Joshua Hofer,
Attorney, Ethics & Legal Compliance.

Appendix

Transfer of Additional Post Office Box Locations to Competitive Fee Group—ZIP Code Listing

The following is a list of the locations covered by the Postal Service's request to the Postal Regulatory Commission described in the Notice. The list is sorted by ZIP Code in ascending numerical order with geographical breaks and headers. As indicated by the column headings, this list provides the ZIP Code of the affected PO Boxes (ZIP), the office name of the location (OFFICE NAME), the city where the PO Boxes are located (CITY), the current market dominant fee group (CFG), and the new competitive fee group (NFG). Please note that there are more ZIP Codes than locations covered by the request, because some locations serve more than one ZIP Code. These locations can be identified whenever multiple ZIP Codes are listed for a single office name.

ZIP | Facilities name | City | St | CFG | NFG
ALABAMA
36064 | PIKE ROAD | PIKE ROAD | AL | 5 | 35
35903 | EAST GADSDEN | GADSDEN | AL | 4 | 34
36350 | MIDLAND CITY | MIDLAND CITY | AL | 5 | 35
35954 | ATTALLA |  | AL | 3 | 33
35645 | KILLEN | KILLEN | AL | 5 | 35
36877 | SMITHS STATION | SMITHS STATION | AL | 5 | 35
35661 | MUSCLE SHOALS | MUSCLE SHOALS | AL | 4 | 34
36549 | LILLIAN | LILLIAN | AL | 4 | 34
35660 | SHEFFIELD | SHEFFIELD | AL | 4 | 34
35673 | TRINITY | TRINITY | AL | 5 | 35
ARKANSAS
72718 | CAVE SPRINGS | CAVE SPRINGS | AR | 5 | 35
72858 | POTTSVILLE | POTTSVILLE | AR | 6 | 36
72053 | COLLEGE STATION | COLLEGE STATION | AR | 5 | 35
ARIZONA
85613 | FORT HUACHUCA | FORT HUACHUCA | AZ | 3 | 33
86325 | CORNVILLE | CORNVILLE | AZ | 5 | 35
86351 | SEDONA VILLAGE OF OAK CREEK | SEDONA | AZ | 5 | 35
85616 | HUACHUCA CITY | HUACHUCA CITY | AZ | 5 | 35
CALIFORNIA
93223 | FARMERSVILLE | FARMERSVILLE | CA | 3 | 33
93601 | AHWAHNEE | AHWAHNEE | CA | 5 | 35
95693 | WILTON | WILTON | CA | 4 | 34
93227 | GOSHEN | GOSHEN | CA | 5 | 35
94037 | MONTARA | MONTARA | CA | 3 | 33
93614 | COARSEGOLD | COARSEGOLD | CA | 6 | 36
94511 | BETHEL ISLAND | BETHEL ISLAND | CA | 3 | 33
93604 | BASS LAKE | BASS LAKE | CA | 5 | 35
95442 | GLEN ELLEN | GLEN ELLEN | CA | 5 | 35
93606 | BIOLA | BIOLA | CA | 5 | 35
93924 | CARMEL VALLEY | CARMEL VALLEY | CA | 4 | 34
95315 | DELHI | DELHI | CA | 5 | 35
95418 | CALPELLA | CALPELLA | CA | 4 | 34
95465 | OCCIDENTAL | OCCIDENTAL | CA | 4 | 34
95245 | MOKELUMNE HILL | MOKELUMNE HILL | CA | 5 | 35
94038 | MOSS BEACH | MOSS BEACH | CA | 4 | 34
95519 | MC KINLEYVILLE | MCKINLEYVILLE | CA | 1 | 31
95462 | MONTE RIO | MONTE RIO | CA | 3 | 33
95379 | TUOLUMNE | TUOLUMNE | CA | 5 | 35
96064 | MONTAGUE | MONTAGUE | CA | 5 | 35
93434 | GUADALUPE | GUADALUPE | CA | 3 | 33
95452 | KENWOOD | KENWOOD | CA | 4 | 34
COLORADO
80513 | BERTHOUD | BERTHOUD | CO | 5 | 35
81526 | PALISADE | PALISADE | CO | 5 | 35
80454 | INDIAN HILLS | INDIAN HILLS | CO | 5 | 35
80136 | STRASBURG | STRASBURG | CO | 5 | 35
80809 | CASCADE | CASCADE | CO | 3 | 33
CONNECTICUT
06238 | COVENTRY | COVENTRY | CT | 5 | 35
06798 | WOODBURY | WOODBURY | CT | 4 | 34
06088 | EAST WINDSOR | EAST WINDSOR | CT | 5 | 35
06029 | ELLINGTON | ELLINGTON | CT | 3 | 33
FLORIDA
33849 | KATHLEEN | KATHLEEN | FL | 5 | 35
32187 | SAN MATEO | SAN MATEO | FL | 5 | 35
32130 | DE LEON SPRINGS | DE LEON SPRINGS | FL | 4 | 34
33825 | AVON PARK | AVON PARK | FL | 4 | 34
33042 | SUMMERLAND KEY | SUMMERLAND KEY | FL | 5 | 35
33851 | LAKE HAMILTON | LAKE HAMILTON | FL | 5 | 35
32764 | OSTEEN | OSTEEN | FL | 4 | 34
32179 | OCKLAWAHA | OCKLAWAHA | FL | 5 | 35
32643 | HIGH SPRINGS | HIGH SPRINGS | FL | 4 | 34
32732 | GENEVA | GENEVA | FL | 7 | 37
33920 | ALVA | ALVA | FL | 4 | 34
32658 | LA CROSSE | LA CROSSE | FL | 4 | 34
33834 | BOWLING GREEN | BOWLING GREEN | FL | 4 | 34
32754 | MIMS | MIMS | FL | 3 | 33
GEORGIA
31008 | BYRON | BYRON | GA | 5 | 35
31213 | MACON | MACON | GA | 4 | 34
31326 | RINCON | RINCON | GA | 5 | 35
30436 | LYONS | LYONS | GA | 4 | 34
31333 | WALTHOURVILLE | WALTHOURVILLE | GA | 5 | 35
30813 | GROVETOWN | GROVETOWN | GA | 3 | 33
30179 | TEMPLE | TEMPLE | GA | 6 | 36
31201 | MULBERRY | MACON | GA | 4 | 34
30107 | BALL GROUND | BALL GROUND | GA | 6 | 36
30541 | EPWORTH | EPWORTH | GA | 5 | 35
30183 | WALESKA | WALESKA | GA | 6 | 36
ILLINOIS
62236 | COLUMBIA | COLUMBIA | IL | 2 | 32
60081 | SPRING GROVE | SPRING GROVE | IL | 7 | 37
61802 | URBANA | URBANA | IL | 3 | 33
62966 | MURPHYSBORO | MURPHYSBORO | IL | 4 | 34
61568 | TREMONT | TREMONT | IL | 5 | 35
62948 | HERRIN | HERRIN | IL | 4 | 34
INDIANA
47803 | ROSE | TERRE HAUTE | IN | 4 | 34
46507 | BRISTOL | BRISTOL | IN | 6 | 36
KANSAS
67052 | GODDARD | GODDARD | KS | 5 | 35
67216 | RIVER CITY | WICHITA | KS | 5 | 35
66442 | FORT RILEY | FORT RILEY | KS | 4 | 34
66104 | ROBERT L ROBERTS | KANSAS CITY | KS | 3 | 33
66007 | BASEHOR | BASEHOR | KS | 4 | 34
67060 | HAYSVILLE | HAYSVILLE | KS | 4 | 34
KENTUCKY
42440 | MORTONS GAP | MORTONS GAP | KY | 5 | 35
42345 | GREENVILLE | GREENVILLE | KY | 4 | 34
40067 | SIMPSONVILLE | SIMPSONVILLE | KY | 6 | 36
LOUISIANA
70075 | MERAUX | MERAUX | LA | 6 | 36
70127 | LAKE FOREST STATION | NEW ORLEANS | LA | 6 | 36
71047 | KEITHVILLE | KEITHVILLE | LA | 5 | 35
70039 | BOUTTE | BOUTTE | LA | 4 | 34
70719 | BRUSLY | BRUSLY | LA | 6 | 36
70711 | ALBANY | ALBANY | LA | 6 | 36
70462 | SPRINGFIELD | SPRINGFIELD | LA | 5 | 35
71281 | SWARTZ | SWARTZ | LA | 5 | 35
70734 | GEISMAR | GEISMAR | LA | 5 | 35
MASSACHUSETTS
02720 | HIGHLAND | FALL RIVER | MA | 1 | 31
01519 | GRAFTON | GRAFTON | MA | 4 | 34
01516 | DOUGLAS | DOUGLAS | MA | 4 | 34
02768 | RAYNHAM CENTER | RAYNHAM CENTER | MA | 5 | 35
01541 | PRINCETON | PRINCETON | MA | 4 | 34
01085 | WESTFIELD | WESTFIELD | MA | 4 | 34
02653 | ORLEANS | ORLEANS | MA | 5 | 35
02333 | EAST BRIDGEWATER | EAST BRIDGEWATER | MA | 1 | 31
01056 | LUDLOW | LUDLOW | MA | 3 | 33
01543 | RUTLAND | RUTLAND | MA | 4 | 34
MARYLAND
20688 | SOLOMONS | SOLOMONS | MD | 4 | 34
21921 | ELKTON | ELKTON | MD | 3 | 33
21811 | BERLIN | BERLIN | MD | 3 | 33
20650 | LEONARDTOWN | LEONARDTOWN | MD | 4 | 34
20711 | LOTHIAN | LOTHIAN | MD | 5 | 35
MAINE
04963 | OAKLAND | OAKLAND | ME | 2 | 32
04090 | WELLS | WELLS | ME | 5 | 35
04858 | SOUTH THOMASTON | SOUTH THOMASTON | ME | 3 | 33
04694 | BAILEYVILLE | BAILEYVILLE | ME | 4 | 34
MICHIGAN
48601 | CUMBERLAND | SAGINAW | MI | 3 | 33
48139 | HAMBURG | HAMBURG | MI | 7 | 37
48174 | ROMULUS | ROMULUS | MI | 3 | 33
49071 | MATTAWAN | MATTAWAN | MI | 7 | 37
MISSOURI
65740 | ROCKAWAY BEACH | ROCKAWAY BEACH | MO | 6 | 36
65441 | BOURBON | BOURBON | MO | 6 | 36
63825 | BLOOMFIELD | BLOOMFIELD | MO | 7 | 37
MISSISSIPPI
38826 | BELDEN | BELDEN | MS | 5 | 35
39272 | BYRAM | BYRAM | MS | 4 | 34
39212 | CANDLESTICK PARK | JACKSON | MS | 4 | 34
38862 | PLANTERSVILLE | PLANTERSVILLE | MS | 5 | 35
39209 | WESTLAND | JACKSON | MS | 4 | 34
38879 | VERONA | VERONA | MS | 6 | 36
MONTANA
59828 | CORVALLIS | CORVALLIS | MT | 5 | 35
NORTH CAROLINA
27358 | SUMMERFIELD | SUMMERFIELD | NC | 6 | 36
27505 | BROADWAY | BROADWAY | NC | 5 | 35
28715 | CANDLER | CANDLER | NC | 5 | 35
28723 | CULLOWHEE | CULLOWHEE | NC | 5 | 35
27593 | WILSONS MILLS | WILSONS MILLS | NC | 4 | 34
28355 | LEMON SPRINGS | LEMON SPRINGS | NC | 5 | 35
27807 | BAILEY | BAILEY | NC | 5 | 35
27299 | LINWOOD | LINWOOD | NC | 5 | 35
27921 | CAMDEN | CAMDEN | NC | 4 | 34
28749 | LITTLE SWITZERLAND | LITTLE SWITZERLAND | NC | 4 | 34
28638 | HUDSON | HUDSON | NC | 2 | 32
28630 | GRANITE FALLS | GRANITE FALLS | NC | 3 | 33
28766 | PENROSE | PENROSE | NC | 5 | 35
27568 | PINE LEVEL | PINE LEVEL | NC | 5 | 35
28787 | WEAVERVILLE | WEAVERVILLE | NC | 4 | 34
27243 | EFLAND | EFLAND | NC | 5 | 35
28716 | CANTON | CANTON | NC | 2 | 32
28666 | ICARD | ICARD | NC | 5 | 35
27868 | RED OAK | RED OAK | NC | 4 | 34
28371 | PARKTON | PARKTON | NC | 6 | 36
27043 | PINNACLE | PINNACLE | NC | 6 | 36
28748 | LEICESTER | LEICESTER | NC | 5 | 35
27370 | TRINITY | TRINITY | NC | 5 | 35
28730 | FAIRVIEW | FAIRVIEW | NC | 5 | 35
27263 | ARCHDALE | ARCHDALE | NC | 4 | 34
28618 | DEEP GAP | DEEP GAP | NC | 5 | 35
28368 | OLIVIA | OLIVIA | NC | 5 | 35
28463 | TABOR CITY | TABOR CITY | NC | 3 | 33
28443 | HAMPSTEAD | HAMPSTEAD | NC | 5 | 35
NEBRASKA
68731 | DAKOTA CITY | DAKOTA CITY | NE | 5 | 35
68028 | GRETNA | GRETNA | NE | 4 | 34
NEW HAMPSHIRE
03755 | HANOVER | HANOVER | NH | 3 | 33
03226 | CENTER HARBOR | CENTER HARBOR | NH | 5 | 35
03469 | WEST SWANZEY | WEST SWANZEY | NH | 5 | 35
03033 | BROOKLINE | BROOKLINE | NH | 4 | 34
NEW JERSEY
08733 | LAKEHURST | LAKEHURST | NJ | 3 | 33
NEW MEXICO
87317 | GAMERCO | GAMERCO | NM | 4 | 34
87060 | TOME | TOME | NM | 5 | 35
87311 | CHURCH ROCK | CHURCH ROCK | NM | 4 | 34
87059 | TIJERAS | TIJERAS | NM | 6 | 36
NEVADA
89439 | VERDI | VERDI | NV | 3 | 33
NEW YORK
14738 | FREWSBURG | FREWSBURG | NY | 5 | 35
12962 | MORRISONVILLE | MORRISONVILLE | NY | 5 | 35
11947 | JAMESPORT | JAMESPORT | NY | 4 | 34
12571 | RED HOOK | RED HOOK | NY | 1 | 31
13607 | ALEXANDRIA BAY | ALEXANDRIA BAY | NY | 3 | 33
10969 | PINE ISLAND | PINE ISLAND | NY | 5 | 35
11940 | EAST MORICHES | EAST MORICHES | NY | 4 | 34
11949 | MANORVILLE | MANORVILLE | NY | 4 | 34
12414 | CATSKILL | CATSKILL | NY | 3 | 33
11948 | LAUREL | LAUREL | NY | 4 | 34
12491 | WEST HURLEY | WEST HURLEY | NY | 4 | 34
13029 | BREWERTON | BREWERTON | NY | 4 | 34
11959 | QUOGUE | QUOGUE | NY | 4 | 34
OHIO
44119 | BEACHLAND | CLEVELAND | OH | 2 | 32
43606 | KENWOOD | TOLEDO | OH | 3 | 33
44266 | RAVENNA | RAVENNA | OH | 4 | 34
43023 | GRANVILLE | GRANVILLE | OH | 4 | 34
45122 | GOSHEN | GOSHEN | OH | 5 | 35
45050 | MONROE | MONROE | OH | 3 | 33
44028 | COLUMBIA STATION | COLUMBIA STATION | OH | 5 | 35
45387 | YELLOW SPRINGS | YELLOW SPRINGS | OH | 3 | 33
OKLAHOMA
73066 | NICOMA PARK | NICOMA PARK | OK | 5 | 35
74039 | KELLYVILLE | KELLYVILLE | OK | 6 | 36
74434 | FORT GIBSON | FORT GIBSON | OK | 6 | 36
74033 | GLENPOOL | GLENPOOL | OK | 7 | 37
73443 | LONE GROVE | LONE GROVE | OK | 5 | 35
74021 | COLLINSVILLE | COLLINSVILLE | OK | 3 | 33
73065 | NEWCASTLE | NEWCASTLE | OK | 5 | 35
OREGON
97362 | MOUNT ANGEL | MOUNT ANGEL | OR | 5 | 35
97305 | BROOKS | SALEM | OR | 4 | 34
97044 | ODELL | ODELL | OR | 4 | 34
97388 | GLENEDEN BEACH | GLENEDEN BEACH | OR | 4 | 34
97368 | OTIS | OTIS | OR | 4 | 34
PENNSYLVANIA
19374 | TOUGHKENAMON | TOUGHKENAMON | PA | 4 | 34
18917 | DUBLIN | DUBLIN | PA | 5 | 35
19518 | DOUGLASSVILLE | DOUGLASSVILLE | PA | 4 | 34
17038 | JONESTOWN | JONESTOWN | PA | 5 | 35
18428 | HAWLEY | HAWLEY | PA | 3 | 33
18321 | BARTONSVILLE | BARTONSVILLE | PA | 5 | 35
18337 | MILFORD | MILFORD | PA | 3 | 33
19311 | AVONDALE | AVONDALE | PA | 5 | 35
17550 | MAYTOWN | MAYTOWN | PA | 5 | 35
19501 | ADAMSTOWN | ADAMSTOWN | PA | 5 | 35
18328 | DINGMANS FERRY | DINGMANS FERRY | PA | 5 | 35
PUERTO RICO
00720 | OROCOVIS | OROCOVIS | PR | 2 | 32
RHODE ISLAND
02871 | PORTSMOUTH | PORTSMOUTH | RI | 3 | 33
02837 | LITTLE COMPTON | LITTLE COMPTON | RI | 3 | 33
SOUTH CAROLINA
29816 | BATH | BATH | SC | 5 | 35
29673 | PIEDMONT | PIEDMONT | SC | 4 | 34
29439 | FOLLY BEACH | FOLLY BEACH | SC | 4 | 34
29677 | SANDY SPRINGS | SANDY SPRINGS | SC | 6 | 36
29040 | DALZELL | DALZELL | SC | 5 | 35
29016 | BLYTHEWOOD | BLYTHEWOOD | SC | 4 | 34
29809 | NEW ELLENTON | NEW ELLENTON | SC | 4 | 34
29851 | WARRENVILLE | WARRENVILLE | SC | 5 | 35
29349 | INMAN | INMAN | SC | 4 | 34
29669 | PELZER | PELZER | SC | 4 | 34
29829 | GRANITEVILLE | GRANITEVILLE | SC | 2 | 32
SOUTH DAKOTA
57064 | TEA | TEA | SD | 6 | 36
57718 | BLACK HAWK | BLACK HAWK | SD | 5 | 36
TENNESSEE
37341 | HARRISON | HARRISON | TN | 5 | 35
37865 | SEYMOUR | SEYMOUR | TN | 5 | 35
37658 | HAMPTON | HAMPTON | TN | 6 | 36
37329 | ENGLEWOOD | ENGLEWOOD | TN | 6 | 36
37330 | ESTILL SPRINGS | ESTILL SPRINGS | TN | 6 | 36
37826 | NIOTA | NIOTA | TN | 6 | 36
37877 | TALBOTT | TALBOTT | TN | 6 | 36
37764 | KODAK | KODAK | TN | 5 | 35
TEXAS
77484 | WALLER | WALLER | TX | 6 | 36
75076 | POTTSBORO | POTTSBORO | TX | 6 | 36
75791 | WHITEHOUSE | WHITEHOUSE | TX | 6 | 36
77639 | ORANGEFIELD | ORANGEFIELD | TX | 6 | 36
77445 | HEMPSTEAD | HEMPSTEAD | TX | 5 | 35
75158 | SCURRY | SCURRY | TX | 5 | 35
76061 | LILLIAN | LILLIAN | TX | 4 | 34
78147 | POTH | POTH | TX | 7 | 37
78123 | MC QUEENEY | MC QUEENEY | TX | 5 | 35
76058 | JOSHUA | JOSHUA | TX | 3 | 33
77447 | HOCKLEY | HOCKLEY | TX | 6 | 36
78559 | LA FERIA | LA FERIA | TX | 5 | 35
77640 | PORT ARTHUR | PORT ARTHUR | TX | 5 | 35
78583 | RIO HONDO | RIO HONDO | TX | 6 | 36
75688 | SCOTTSVILLE | SCOTTSVILLE | TX | 6 | 36
77590 | TEXAS CITY | TEXAS CITY | TX | 6 | 36
78362 | INGLESIDE | INGLESIDE | TX | 5 | 35
77611 | BRIDGE CITY | BRIDGE CITY | TX | 4 | 34
UTAH
84655 | SANTAQUIN | SANTAQUIN | UT | 5 | 35
VIRGINIA
23805 | WALNUT HILL | PETERSBURG | VA | 5 | 35
22060 | FORT BELVOIR | FORT BELVOIR | VA | 2 | 32
23234 | AMPTHILL | NORTH CHESTERFIELD | VA | 5 | 35
23062 | GLOUCESTER POINT | GLOUCESTER POINT | VA | 5 | 35
23075 | HIGHLAND SPRINGS | HENRICO | VA | 4 | 34
22963 | PALMYRA | PALMYRA | VA | 5 | 35
24330 | FRIES | FRIES | VA | 5 | 35
24064 | BLUE RIDGE | BLUE RIDGE | VA | 5 | 35
22655 | STEPHENS CITY | STEPHENS CITY | VA | 4 | 34
22821 | DAYTON | DAYTON | VA | 5 | 35
22947 | KESWICK | KESWICK | VA | 4 | 34
24482 | VERONA | VERONA | VA | 5 | 35
22945 | IVY | IVY | VA | 5 | 35
24574 | MONROE | MONROE | VA | 5 | 35
22642 | LINDEN | LINDEN | VA | 4 | 34
23005 | ASHLAND | ASHLAND | VA | 3 | 33
22553 | SPOTSYLVANIA | SPOTSYLVANIA | VA | 5 | 35
23875 | PRINCE GEORGE | PRINCE GEORGE | VA | 7 | 37
VERMONT
05829 | DERBY | DERBY | VT | 5 | 35
05059 | QUECHEE | QUECHEE | VT | 3 | 33
05055 | NORWICH | NORWICH | VT | 4 | 34
WASHINGTON
98546 | GRAPEVIEW | GRAPEVIEW | WA | 4 | 34
98384 | SOUTH COLBY | SOUTH COLBY | WA | 3 | 33
98239 | COUPEVILLE | COUPEVILLE | WA | 4 | 34
98840 | OKANOGAN | OKANOGAN | WA | 4 | 34
99005 | COLBERT | COLBERT | WA | 4 | 34
WISCONSIN
53157 | PELL LAKE | PELL LAKE | WI | 5 | 35
53191 | WILLIAMS BAY | WILLIAMS BAY | WI | 5 | 35
54650 | ONALASKA | ONALASKA | WI | 4 | 34
WEST VIRGINIA
25526 | HURRICANE | HURRICANE | WV | 4 | 34
26301 | DOWNTOWN CLARKSBURG | CLARKSBURG | WV | 4 | 34
25313 | CROSS LANES | CHARLESTON | WV | 4 | 34
25177 | SAINT ALBANS | SAINT ALBANS | WV | 4 | 34
25143 | NITRO | NITRO | WV | 4 | 34
25547 | PECKS MILL | PECKS MILL | WV | 5 | 35
25535 | LAVALETTE | LAVALETTE | WV | 5 | 35
25427 | HEDGESVILLE | HEDGESVILLE | WV | 4 | 34

[FR Doc. 2022-05971 Filed 3-21-22; 8:45 am]

BILLING CODE 7710-12-P